DEPARTMENT OF THE INTERIOR

Bureau of Land Management

[WY-048-00-1060-HI]

Notice of Wild Horse Gathering Activity for Calendar Year 2001

AGENCY: Bureau of Land Management, Interior.

SUMMARY: The Rock Springs Field Office Wild Horse Environmental Assessment (WY-048-EA9-87) and Gathering Plan was released on May 21, 1999. The approved Decision Record was issued on July 14, 1999. The action analyzed and planned was not completed in 1999, or 2000 and is scheduled to continue through calendar year 2001. The planned gathering periods will be from February 1 through March 30, and from July 15, through the end of the calendar year, weather permitting. A Decision Record for gathering during February and March will be signed in February 2001. An Environmental Assessment (#WY-040-EA01-019) is currently being prepared and will be available for review and comment in January 2001.

DATES: February 1, through March 30, and July 15 through December 31, 2001.

ADDRESSES: 280 Highway 191 North, Rock Springs, Wyoming.

FOR FURTHER INFORMATION CONTACT: John S. McKee, Field Manager, Rock Springs Field Office, 280 Highway 191 North, Rock Springs, Wyoming 82901 (307-352-0200)

John S. McKee,
Field Manager.

[FR Doc. 01-1946 Filed 1-23-01; 8:45 am]

BILLING CODE 4310-22-U